ENVIRONMENTAL PROTECTION AGENCY

[FRL-7419-2]

Alaric, Inc. Superfund Site; Notice of Proposed Settlement

AGENCY: Environmental Protection Agency (EPA).

ACTION: Notice of proposed administrative order on consent.

SUMMARY: The United States Environmental Protection Agency is proposing to enter into an administrative order on consent, pursuant to section 122(h) of the Comprehensive Environmental Response, Compensation, and Liability Act of 1980 (CERCLA), as amended, regarding the Alaric, Inc. Superfund Site, located in Tampa, Hillsborough County, Florida, with the following parties: Lee W. Oglesby, Sr. and Carolyn M. Oglesby, as individuals; the Lee W. Oglesby, Sr. Living Trust, dated September 22, 1998, as amended; Lee W. Oglesby, Sr., as trustee and beneficiary of the Lee W. Oglesby, Sr. Living Trust, dated September 22, 1998, as amended; and successor trustees of the Lee W. Oglesby, Sr. Living Trust, dated September 22, 1998, as amended. The settlement is designed to resolve fully each settling party's liability at the Site through a covenant not to sue under sections 106 and 107(a) of CERCLA, 42 U.S.C. 9606 and 9607(a), and provide contribution protection. EPA will consider public comments on the proposed settlement within thirty (30) days of publication of this notice. EPA may withdraw from or modify the proposed settlement should such comments disclose facts or considerations which indicate the proposed settlement is inappropriate, improper, or inadequate.

Copies of the proposed settlement are available from: Ms. Paula V. Batchelor, U.S. EPA, Region 4 (WMD-CPSB), Sam Nunn Atlanta Federal Center, Waste Management Division, CERCLA Program Services Branch, 61 Forsyth Street, SW., Atlanta, Georgia 30303, (404) 562-8887.

Written comments may be submitted to Ms. Batchelor within thirty (30) calendar days of the date of this publication.

Dated: November 20, 2002.
Anita L. Davis,
Acting Chief, CERCLA Program Services Branch, Waste Management Division.

[FR Doc. 02-30942 Filed 12-5-02; 8:45 am]

BILLING CODE 6560-50-P